DEPARTMENT OF HEALTH AND HUMAN SERVICES

Centers for Disease Control and Prevention

[60 Day-02-75]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404)498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: Children's Longitudinal Development Study, OMB No. 0920-0450—Revision—National Center for Birth Defects and Developmental Disabilities (NCBDDD), Centers for Disease Control and Prevention (CDC). CDC developed the Children's Longitudinal Development Study to investigate etiologic factors for select developmental disabilities. Since 1991, surveillance of children aged three to ten years who have one or more select developmental disabilities (cerebral palsy, mental retardation, hearing loss, and vision impairment) has been conducted in the five-county Atlanta metropolitan area through CDC Metropolitan Atlanta Developmental Disabilities Surveillance Program (MADDSP).

MADDSP has identified children with developmental disabilities primarily through the special education programs of the public schools in those five counties and select pediatric medical facilities. Recently, MADDSP expanded to identify children with cerebral palsy at younger ages through a broader array of medical facilities where diagnostic evaluations are performed, and autism has been included as one of the developmental disabilities.

CDC National Center for Birth Defects and Developmental Disabilities Children's Longitudinal Development Study is an ongoing case-control study that will serve as an instrument to annually (1) contact parents of all children (750 children) with any of the five developmental disabilities who are newly identified in the surveillance database and who were born in the metro Atlanta area and parents of 250 control children to request access to maternal prenatal, labor and delivery, and newborn medical records; and (2) conduct telephone interviews with mothers of children with cerebral palsy or autism (250 children) and mothers of control children.

The interviews will supply additional risk factor information relating to the mothers' medical and reproductive histories, prenatal behaviors and exposures, and family histories of developmental problems. Additionally photographs and head circumference measurements of children will be included in the interview sample. There is no cost to respondents.

Survey instruments | No. of respondents | No. of responses/ respondents | Avg. burden/response (in hours) | Total burden (in hours)
Mothers contact calls Scheduling calls | 1000 | 1 | 20/60 | 333
Scheduling calls | 500 | 1 | 20/60 | 167
Telephone interview | 500 | 1 | 90/60 | 750
Photography/anthropomertry | 500 | 1 | 45/60 | 375
Total |  |  |  | 1625

Dated: August 28, 2002.
Nancy E. Cheal,
Acting Associate Director for Policy, Planning and Evaluation, Centers for Disease Control and Prevention.

[FR Doc. 02-22554 Filed 9-4-02; 8:45 am]

BILLING CODE 4163-18-P